ENVIRONMENTAL PROTECTION AGENCY

[FRL-8287-1]

Science Advisory Board Staff Office, Request for Nominations for Review of Multi-Agency Radiation Survey and Assessment of Materials and Equipment Manual (MARSAME)

AGENCY: Environmental Protection Agency (EPA).

ACTION: Notice.

SUMMARY: The EPA Science Advisory Board (SAB) Staff Office is requesting nominations to augment expertise to the SAB's Radiation Advisory Committee (RAC) to review the December 2006 draft of the Multi-Agency Radiation Survey and Assessment of Materials and Equipment Manual (MARSAME), which is a supplement to the Multi-Agency Radiation Survey and Site Assessment Manual (MARSSIM). MARSAME provides information on planning, conducting, evaluating, and documenting radiological disposition surveys for the assessment of materials and equipment.

DATES: Nominations should be submitted by April 3, 2007 per the instructions below.

FOR FURTHER INFORMATION CONTACT: Any member of the public wishing further information regarding this Request for Nominations may contact Dr. K. Jack Kooyoomjian, Designated Federal Officer (DFO), via telephone/voice mail at (202) 343-9984; via e-mail at kooyoomjian.jack@epa.gov or at the U.S. EPA Science Advisory Board (1400F), 1200 Pennsylvania Ave., NW., Washington, DC 20460. General information about the SAB can be found in the SAB Web site at http://www.epa.gov/sab. The EPA technical contact for this review is Dr. Mary E. Clark, who may be contacted via telephone at (202) 343-9348 or by e-mail at clark.marye@epa.gov.

SUPPLEMENTARY INFORMATION: Background: The December 2006 draft Multi-Agency Radiation Survey and Assessment of Materials and Equipment Manual (MARSAME) is a supplement to the Multi-Agency Radiation Survey and Site Assessment Manual (MARSSIM) (EPA 402-R-970-016, Rev. 1, August 2000 and June 2001 update). The scope of MARSSIM was limited to surface soils and building surfaces. The MARSAME supplement addresses materials and equipment (M&E) potentially affected by radioactivity, including metals, concrete, tools, equipment, piping, conduit, furniture and dispersible bulk materials such as trash, rubble, roofing materials, and sludge. M&E may be containers and packages in general commerce or from licensed radioactivity users. The wide variety of M&E requires additional flexibility in the survey process, and this flexibility is incorporated into MARSAME.

The MARSAME draft document has been developed collaboratively by four Federal agencies having authority and control over radioactive materials: the Department of Defense (DOD), Department of Energy (DOE), Environmental Protection Agency (EPA), and the Nuclear Regulatory Commission (NRC). MARSAME encourages an effective use of resources, and when finalized, will be a multi-agency consensus document. MARSAME was developed collaboratively by the MARSSIM Work Group over the past five years by technical staff of the four Federal agencies having authority for control of radioactive materials (60 FR 12555; March 7, 1995).

The EPA's Science Advisory Board (SAB) previously provided advice on MARSAME (EPA-SAB-RAC-CON-03-002, dated Feb 27, 2003); EPA-SAB-RAC-CON-04-001, dated February 9, 2004); MARSSIM (EPA-SAB-RAC-97-008, dated September 30, 1997), and MARLAP (Multi-Agency Radiological Laboratory Analytical Protocols), (EPA-SAB-RAC-03-009, dated June 10, 2003). On behalf of the four participating Federal agencies, EPA's Office of Radiation and Indoor Air (ORIA) is requesting that the SAB peer review the draft MARSAME manual dated December, 2006. The aforementioned SAB reports may be found on the SAB's Web site (http://www.epa.gov/sab in the reports listings). Relevant background information on MARSAME can be found at http://www.marsame.org. The draft MARSAME manual may be found at http://epa.gov/radiation/marssim/publicpreview.htm#obtain.

The SAB is requesting nominations for potential panelists to provide comments on the MARSAME draft manual. The Panel will review the technical acceptability of the MARSAME approach for environmental radiological surveys, appropriate disposition of M&E to contain radionuclide concentrations or radioactivity above background, the technical acceptability of the statistical methodology, and the adequacy of procedures for determining measurement uncertainty, detectability, and quantifiability.

Request for Nominations: The SAB Staff Office is requesting nominations to augment expertise to the Radiation Advisory Committee (RAC) to review the MARSAME draft manual. The augmented RAC will provide advice through the chartered SAB, and will comply with the provisions of the Federal Advisory Committee Act (FACA) and all appropriate SAB procedural policies. To supplement expertise on the RAC, the SAB Staff Office is seeking individuals with nationally recognized radiation expertise and knowledge of the MARSAME topic such that the entire Panel will possess expertise and knowledge in the following areas in a materials and equipment (M&E) setting:

(1) Statistics applicable to radiological surveys of M&E;

(2) Radioactive waste management with emphasis on after market materials recycling, decommissioning/cleanup of radiation sites, and facilities operations experience at large as well as small radiological sites;

(3) Instrumentation for radiation detection with emphasis on Measurement Quality Objectives (MQOs) as well as scan-only and in-situ survey techniques and instrumentation;

(4) Radiation data management with emphasis on Data Quality Assessment (DQA) and Data Quality Objective (DQO) protocols; and

(5) General radiation health safety and worker protection specializing in facility operation safety, clean-up, and decommissioning a large site or facility (e.g., a nuclear waste storage facility or a nuclear power plant).

Process and Deadline for Submitting Nominations: Any interested person or organization may nominate qualified individuals to add expertise to the Radiation Advisory Committee (RAC) in the areas of expertise described above. Nominations should be submitted in electronic format through the SAB Web site at the following URL: http://www.epa.gov/sab; or directly via the Form for Nominating Individuals to Panels of the EPA Science Advisory Board link found at URL: http://www.epa.gov/sab/panels/paneltopics.html. Please follow the instructions for submitting nominations carefully. To be considered, nominations should include all of the information required on the associated forms. Anyone unable to submit nominations using the electronic form and who has any questions concerning the nomination process may contact Dr. K. Jack Kooyoomjian, DFO, as indicated above in this notice. Nominations should be submitted in time to arrive no later than April 3, 2007.

For nominees to be considered, please include: Contact information; a curriculum vitae; a biosketch of no more than two paragraphs (containing information on the nominee's current position, educational background, areas of expertise and research activities, service on other advisory committees and professional societies; the candidate's special expertise related to the panel being formed; and sources of recent grant and/or contract support).

The EPA SAB Staff Office will acknowledge receipt of nominations. The names and biosketches of qualified nominees identified by respondents to the Federal Register notice and additional experts identified by the SAB Staff will be posted on the SAB Web site at: http://www.epa.gov/sab. Public comments on this “Short List” of candidates will be accepted for 21 calendar days. The public will be requested to provide relevant information or other documentation on nominees that the SAB Staff Office should consider in evaluating candidates.

For the EPA SAB Staff Office, a balanced subcommittee or review panel includes candidates who possess the necessary domains of knowledge, the relevant scientific perspectives (which, among other factors, can be influenced by work history and affiliation), and the collective breadth of experience to adequately address the charge. In establishing the final Radiation Advisory Committee (RAC), the SAB Staff Office will consider public comments on the “Short List” of candidates, information provided by the candidates themselves, and background information independently gathered by the SAB Staff Office. Specific criteria to be used for Panel membership include: (a) Scientific and/or technical expertise, knowledge, and experience (primary factors); (b) availability and willingness to serve; (c) absence of financial conflicts of interest; (d) absence of an appearance of a lack of impartiality; and (e) skills working in committees, subcommittees and advisory panels; and, for the Panel as a whole, (f) diversity of, and balance among, scientific expertise, viewpoints, etc.

The SAB Staff Office's evaluation of an absence of financial conflicts of interest will include a review of the “Confidential Financial Disclosure Form for Special Government Employees Serving on Federal Advisory Committees at the U.S. Environmental Protection Agency” (EPA Form 3110-48). This confidential form allows Government officials to determine whether there is a statutory conflict between that person's public responsibilities (which includes membership on an EPA Federal advisory committee) and private interests and activities, or the appearance of a lack of impartiality, as defined by Federal regulation. The form may be viewed and downloaded from the following URL address: http://www.epa.gov/sab/pdf/epaform3110-48.pdf.

The approved policy under which the EPA SAB Office selects subcommittees and review panels is described in the following document: Overview of the Panel Formation Process at the Environmental Protection Agency Science Advisory Board (EPA-SAB-EC-02-010), which is posted on the SAB Web site at: http://www.epa.gov/sab/pdf/ec02010.pdf.

Dated: March 5, 2007.
Anthony F. Maciorowski,
Deputy Director, EPA Science Advisory Board Staff Office.

[FR Doc. E7-4562 Filed 3-12-07; 8:45 am]

BILLING CODE 6560-50-P